DEPARTMENT OF HEALTH AND HUMAN SERVICES

Administration for Children and Families

Office of Refugee Resettlement

Replacement Grant Award

CFDA#: 93.576.

AGENCY: Office of Refugee Resettlement, ACF, DHHS.

ACTION: Notice to award a replacement grant to Catholic Charities of Tennessee, Inc.

SUMMARY: In Fiscal Year 2005, in an effort to assist local school systems that were being strained by the arrivals of large numbers of refugee children, The Office of Refugee Resettlement (ORR) awarded, through competition, a Refugee School Impact grant to the Tennessee Department of Human Services, Nashville, TN, for a project period of August 15, 2005 through August 14, 2010. The Tennessee Department of Human Services served as the fiscal sponsor and legal entity for the project. As of June 30, 2008, the Tennessee Department of Human Services relinquished the grant. Catholic Charities of Tennessee, Inc., Nashville, TN, is now awarded a non-competitive replacement grant to continue to provide services under the Refugee School Impact project. Services provided under the grant to Catholic Charities of Tennessee, Inc., are within the scope and operation of the original award. Under the award, Catholic Charities of Tennessee, Inc., is eligible apply for a non-competitive continuation award for the period of August 15, 2009 through August 14, 2010.

FOR FURTHER INFORMATION CONTACT: Pamela Green-Smith, Director, Division of Refugee Assistance, Office of Refugee Resettlement, 370 L'Enfant Promenade, SW., Washington, DC 20447. Telephone: 202-401-4531. E-mail: Pamela.Greensmith@acf.hhs.gov

SUPPLEMENTARY INFORMATION: Legislative Authority: This program is authorized by Section 412 (c)(1)(A)(iii), as amended of the Immigration and Nationality Act (8 U.S.C. 1522 (c)(1)(A)(iii)) and covers the following Services: (1) English as a Second Language instruction (2) After-school tutorials focused on helping students understand and complete programs that encourage high school completion and full participation in school activities (3) After-school summer programs that support remedial work or promote school readiness (4) Parental involvement programs (5) Interpreter services for parent/teacher meetings and conferences and (6) Bi-lingual/bi-cultural counselors and aides.

Amount of Award: $224,834.76.

Project Period: August 15, 2008—August 14, 2010.

Dated: October 1, 2008.
Pamela Green-Smith,
Director, Division of Refugee Assistance, Office of Refugee Resettlement.

[FR Doc. E8-23774 Filed 10-7-08; 8:45 am]

BILLING CODE 4184-01-P